LEGAL SERVICES CORPORATION

Notice of Intent to Award—Grant Awards for the Provision of Civil Legal Services to Eligible Low-Income Clients Beginning January 1, 2013

AGENCY: Legal Services Corporation.

ACTION: Announcement of intention to make FY 2013 Competitive Grant Awards.

SUMMARY: The Legal Services Corporation (LSC) hereby announces its intention to award grants and contracts to provide economical and effective delivery of high quality civil legal services to eligible low-income clients, beginning January 1, 2013.

DATES: All comments and recommendations must be received on or before the close of business on November 21, 2012.

ADDRESSES: Legal Services Corporation—Competitive Grants, Legal Services Corporation, 3333 K Street NW., Third Floor, Washington, DC 20007.

FOR FURTHER INFORMATION CONTACT: Reginald Haley, Office of Program Performance, at (202) 295-1545, or haleyr@lsc.gov.

SUPPLEMENTARY INFORMATION: Pursuant to LSC's announcement of funding availability on April 2, 2012 (77 FR 19738), and Grant Renewal applications due beginning June 4, 2012, LSC intends to award funds to provide civil legal services in the indicated service areas. Applicants for each service area are listed below. Amounts are annualized, based on the FY2013 Continuing Resolution, and are subject to change.

State and service area | Name of applicant organization | Estimated annualized 2013 funding amount
Alabama:
AL-4 | Legal Services Alabama, Inc | $6,074,541
MAL | Texas RioGrande Legal Aid, Inc | 31,110
Alaska:
AK-1 | Alaska Legal Services Corporation | 703,234
NAK-1 | Alaska Legal Services Corporation | 512,474
Arizona:
AZ-2 | DNA-Peoples Legal Services, Inc | 510,311
AZ-3 | Community Legal Services, Inc | 3,683,417
AZ-5 | Southern Arizona Legal Aid, Inc | 1,776,541
MAZ | Community Legal Services, Inc | 140,384
NAZ-5 | DNA-Peoples Legal Services, Inc | 2,472,711
NAZ-6 | Southern Arizona Legal Aid, Inc | 604,011
Arkansas:
MAR | Texas RioGrande Legal Aid, Inc | 74,736
AR-6 | Legal Aid of Arkansas, Inc | 1,414,801
AR-7 | Center for Arkansas Legal Services | 2,111,920
California:
MCA | California Rural Legal Assistance, Inc | 2,496,051
CA-1 | California Indian Legal Services, Inc | 32,124
CA-12 | Inland Counties Legal Services, Inc | 3,965,411
CA-14 | Legal Aid Society of San Diego, Inc | 2,772,954
CA-19 | Legal Aid Society of Orange County, Inc | 3,873,069
CA-2 | Greater Bakersfield Legal Assistance, Inc | 892,465
CA-26 | Central California Legal Services | 2,792,169
CA-27 | Legal Services of Northern California, Inc | 3,450,168
CA-28 | Bay Area Legal Aid | 4,067,356
CA-29 | Legal Aid Foundation of Los Angeles | 7,711,494
CA-30 | Neighborhood Legal Services of Los Angeles County | 4,555,111
CA-31 | California Rural Legal Assistance, Inc | 4,552,084
NCA-1 | California Indian Legal Services, Inc | 837,189
Colorado:
NCO-1 | Colorado Legal Services | 91,003
CO-6 | Colorado Legal Services | 3,261,399
MCO | Colorado Legal Services | 140,428
Connecticut:
CT-1 | Statewide Legal Services of Connecticut, Inc | 2,253,994
NCT-1 | Pine Tree Legal Assistance, Inc | 14,834
Delaware:
DE-1 | Legal Services Corporation of Delaware, Inc | 587,889
MDE | Legal Aid Bureau, Inc | 23,475
District of Columbia:
DC-1 | Neighborhood Legal Services Program of the District of Columbia | 957,701
Florida:
MFL | Florida Rural Legal Services, Inc | 849,188
FL-13 | Legal Services of North Florida, Inc | 1,378,426
FL-14 * | Three Rivers Legal Services, Inc | 1,697,808
FL-14 * | Jacksonville Area Legal Aid | 1,697,808
FL-15 | Community Legal Services of Mid-Florida, Inc | 2,930,708
FL-16 | Bay Area Legal Services, Inc | 2,486,719
FL-17 | Florida Rural Legal Services, Inc | 2,617,954
FL-18 | Coast to Coast Legal Aid of South Florida, Inc | 1,760,212
FL-5 | Legal Services of Greater Miami, Inc | 3,356,943
Georgia:
GA-1 | Atlanta Legal Aid Society, Inc | 2,448,647
GA-2 | Georgia Legal Services Program | 6,222,334
MGA | Georgia Legal Services Program | 370,714
Guam:
GU-1 | Guam Legal Services Corporation | 304,296
Hawaii:
HI-1 | Legal Aid Society of Hawaii | 1,315,760
NHI-1 | Legal Aid Society of Hawaii | 217,062
Idaho:
NID-1 | Idaho Legal Aid Services, Inc | 61,563
MID | Idaho Legal Aid Services, Inc | 176,733
ID-1 | Idaho Legal Aid Services, Inc | 1,124,098
Illinois:
IL-3 | Land of Lincoln Legal Assistance Foundation, Inc | 2,340,475
IL-6 | Legal Assistance Foundation of Metropolitan Chicago | 6,109,447
IL-7 | Prairie State Legal Services, Inc | 2,613,686
MIL | Legal Assistance Foundation of Metropolitan Chicago | 236,032
Indiana:
MIN | Indiana Legal Services, Inc | 107,508
IN-5 | Indiana Legal Services, Inc | 4,785,816
Iowa:
MIA | Iowa Legal Aid | 35,676
IA-3 | Iowa Legal Aid | 2,220,897
Kansas:
KS-1 | Kansas Legal Services, Inc | 2,255,008
Kentucky:
KY-10 | Legal Aid of the Bluegrass | 1,200,276
KY-2 | Legal Aid Society | 1,114,127
KY-5 | Appalachian Research and Defense Fund of Kentucky | 1,922,620
KY-9 | Kentucky Legal Aid | 1,154,927
MKY | Texas RioGrande Legal Aid, Inc | 40,241
Louisiana:
MLA | Texas RioGrande Legal Aid, Inc | 26,037
LA-1 | Southeast Louisiana Legal Services Corporation | 1,339,952
LA-10 | Acadiana Legal Service Corporation | 1,897,990
LA-11 | Legal Services of North Louisiana, Inc | 1,780,783
LA-12 | Southeast Louisiana Legal Services Corporation | 2,399,188
Maine:
ME-1 | Pine Tree Legal Assistance, Inc | 1,117,240
MMX-1 | Pine Tree Legal Assistance, Inc | 118,090
NME-1 | Pine Tree Legal Assistance, Inc | 61,077
Maryland:
MMD | Legal Aid Bureau, Inc | 85,966
MD-1 | Legal Aid Bureau, Inc | 3,750,754
Massachusetts:
MA-10 | Massachusetts Justice Project, Inc | 1,426,311
MA-11 | Volunteer Lawyers Project of the Boston Bar Association | 1,925,401
MA-12 | South Coastal Counties Legal Services | 863,034
MA-4 | Merrimack Valley Legal Services, Inc | 784,738
Michigan:
MMI | Legal Services of South Central Michigan | 569,155
MI-12 | Legal Services of South Central Michigan | 1,208,077
MI-13 | Legal Aid and Defender Association, Inc | 3,618,049
MI-14 | Legal Services of Eastern Michigan | 1,295,609
MI-15 | Legal Aid of Western Michigan | 1,576,553
MI-9 | Legal Services of Northern Michigan, Inc | 667,654
NMI-1 | Michigan Indian Legal Services, Inc | 155,991
Micronesia:
MP-1 | Micronesian Legal Services, Inc | 1,559,585
Minnesota:
MN-1 | Legal Aid Service of Northeastern Minnesota | 395,142
MN-4 | Legal Services of Northwest Minnesota Corporation | 354,148
MN-5 | Southern Minnesota Regional Legal Services, Inc | 1,150,913
MN-6 | Central Minnesota Legal Services, Inc | 1,238,313
MMN | Southern Minnesota Regional Legal Services, Inc | 189,179
NMN-1 | Anishinabe Legal Services, Inc | 226,457
Mississippi:
MMS | Texas RioGrande Legal Aid, Inc | 53,963
MS-10 | Mississippi Center for Legal Services | 2,842,153
MS-9 | North Mississippi Rural Legal Services, Inc | 1,897,457
Missouri:
MO-3 | Legal Aid of Western Missouri | 1,679,074
MO-4 | Legal Services of Eastern Missouri, Inc | 1,853,770
MO-5 | Mid-Missouri Legal Services Corporation | 369,542
MO-7 | Legal Services of Southern Missouri | 1,599,668
MMO | Legal Aid of Western Missouri | 77,028
Montana:
MMT | Montana Legal Services Association | 51,611
MT-1 | Montana Legal Services Association | 1,071,000
NMT-1 | Montana Legal Services Association | 150,883
Nebraska:
NNE-1 | Legal Aid of Nebraska | 31,323
NE-4 | Legal Aid of Nebraska | 1,370,502
MNE | Legal Aid of Nebraska | 39,978
Nevada:
NV-1 | Nevada Legal Services, Inc | 1,798,949
NNV-1 | Nevada Legal Services, Inc | 126,006
New Hampshire:
NH-1 | Legal Advice & Referral Center, Inc | 677,432
New Jersey:
MNJ | South Jersey Legal Services, Inc | 114,093
NJ-12 | Ocean-Monmouth Legal Services, Inc | 629,591
NJ-15 | Legal Services of Northwest Jersey | 371,448
NJ-16 | South Jersey Legal Services, Inc | 1,264,517
NJ-17 | Central Jersey Legal Services, Inc | 1,032,149
NJ-18 | Northeast New Jersey Legal Services Corporation | 1,679,687
NJ-8 | Essex-Newark Legal Services Project, Inc | 1,027,908
New Mexico:
NM-1 | DNA-Peoples Legal Services, Inc | 205,245
NM-5 | New Mexico Legal Aid | 2,589,067
NNM-2 | DNA-Peoples Legal Services, Inc | 21,527
NNM-4 | New Mexico Legal Aid | 440,290
MNM | New Mexico Legal Aid | 82,581
New York:
MNY | Legal Aid Society of Mid-New York, Inc | 261,728
NY-20 | Legal Services of the Hudson Valley | 1,691,774
NY-21 | Legal Aid Society of Northeastern New York, Inc | 1,270,630
NY-22 | Legal Aid Society of Mid-New York, Inc | 1,665,492
NY-23 | Legal Assistance of Western New York, Inc | 1,632,641
NY-24 | Neighborhood Legal Services, Inc | 1,271,312
NY-7 | Nassau/Suffolk Law Services Committee, Inc | 1,315,209
NY-9 | Legal Services NYC | 14,437,580
North Carolina:
MNC | Legal Aid of North Carolina, Inc | 506,769
NC-5 | Legal Aid of North Carolina, Inc | 7,877,863
NNC-1 | Legal Aid of North Carolina, Inc | 206,809
North Dakota:
NND-3 | Legal Services of North Dakota | 255,256
ND-3 | Legal Services of North Dakota | 532,867
MND | Southern Minnesota Regional Legal Services, Inc | 109,598
Ohio:
MOH | Legal Aid of Western Ohio, Inc | 119,104
OH-17 | Ohio State Legal Services | 1,614,947
OH-18 | Legal Aid Society of Greater Cincinnati | 1,361,904
OH-20 | Community Legal Aid Services, Inc | 1,575,704
OH-21 | The Legal Aid Society of Cleveland | 2,004,781
OH-23 | Legal Aid of Western Ohio, Inc | 2,356,996
OH-5 | Ohio State Legal Services | 1,205,647
Oklahoma:
OK-3 | Legal Aid Services of Oklahoma, Inc | 4,237,240
MOK | Legal Aid Services of Oklahoma, Inc | 59,168
NOK-1 | Oklahoma Indian Legal Services, Inc | 775,882
Oregon:
NOR-1 | Legal Aid Services of Oregon | 174,926
MOR | Legal Aid Services of Oregon | 526,693
OR-6 | Legal Aid Services of Oregon | 2,873,281
Pennsylvania:
PA-1 | Philadelphia Legal Assistance Center | 2,901,994
PA-11 | Southwestern Pennsylvania Legal Services, Inc | 523,806
PA-23 | Legal Aid of Southeastern Pennsylvania | 1,065,595
PA-24 | North Penn Legal Services, Inc | 1,699,864
PA-25 | MidPenn Legal Services, Inc | 2,079,587
PA-26 | Northwestern Legal Services | 685,889
PA-5 | Laurel Legal Services, Inc | 720,979
PA-8 | Neighborhood Legal Services Association | 1,571,558
MPA | Philadelphia Legal Assistance Center | 156,713
Puerto Rico:
MPR | Puerto Rico Legal Services, Inc | 274,908
PR-1 | Puerto Rico Legal Services, Inc | 15,307,505
PR-2 | Community Law Office, Inc | 324,070
Rhode Island:
RI-1 | Rhode Island Legal Services, Inc | 1,052,659
South Carolina |
SC-8 | South Carolina Legal Services, Inc | 4,604,709
MSC | South Carolina Legal Services, Inc | 187,028
South Dakota:
SD-2 | East River Legal Services | 383,973
SD-4 | Dakota Plains Legal Services, Inc | 454,781
NSD-1 | Dakota Plains Legal Services, Inc | 884,772
Tennessee:
TN-10 | Legal Aid Society of Middle Tennessee and the Cumberlands | 2,447,029
TN-4 | Memphis Area Legal Services, Inc | 1,344,167
TN-7 | West Tennessee Legal Services, Inc | 627,098
TN-9 | Legal Aid of East Tennessee | 2,053,251
MTN | Texas RioGrande Legal Aid, Inc | 59,973
Texas:
MTX | Texas RioGrande Legal Aid, Inc | 1,313,390
TX-13 | Lone Star Legal Aid | 9,068,623
TX-14 | Legal Aid of NorthWest Texas | 7,154,969
TX-15 | Texas RioGrande Legal Aid, Inc | 9,730,051
NTX-1 | Texas RioGrande Legal Aid, Inc | 29,657
Utah:
NUT-1 | Utah Legal Services, Inc | 77,959
UT-1 | Utah Legal Services, Inc | 1,740,438
MUT | Utah Legal Services, Inc | 64,135
Vermont:
VT-1 | Legal Services Law Line of Vermont, Inc | 477,801
Virgin Islands:
VI-1 | Legal Services of the Virgin Islands, Inc | 305,511
Virginia:
MVA | Central Virginia Legal Aid Society, Inc | 149,130
VA-15 | Southwest Virginia Legal Aid Society, Inc | 775,869
VA-16 | Legal Aid Society of Eastern Virginia | 1,340,345
VA-17 | Virginia Legal Aid Society, Inc | 807,662
VA-18 | Central Virginia Legal Aid Society, Inc | 952,148
VA-19 | Blue Ridge Legal Services, Inc | 671,799
VA-20 | Legal Services of Northern Virginia, Inc | 1,046,116
Washington:
MWA | Northwest Justice Project | 690,166
WA-1 | Northwest Justice Project | 4,665,705
NWA-1 | Northwest Justice Project | 269,940
West Virginia:
WV-5 | Legal Aid of West Virginia, Inc | 2,761,977
Wisconsin:
NWI-1 | Wisconsin Judicare, Inc | 146,993
WI-2 | Wisconsin Judicare, Inc | 832,974
WI-5 | Legal Action of Wisconsin, Inc | 3,030,152
MWI | Legal Action of Wisconsin, Inc | 86,089
Wyoming:
NWY-1 | Legal Aid of Wyoming, Inc | 163,748
WY-4 | Legal Aid of Wyoming, Inc | 479,087
* Only one grant will be awarded for service area FL-14.

These grants and contracts will be awarded under the authority conferred on LSC by the Legal Services Corporation Act, as amended. 42 U.S.C. 2996e(a)(1). Awards will be made so that each service area is served, although no listed organization is guaranteed an award or contract. Grants will become effective and grant funds will be distributed on or about January 1, 2013.

This notice is issued pursuant to 42 U.S.C. 2996f(f). Comments and recommendations concerning potential grantees are invited, and should be delivered to LSC within thirty (30) days from the date of publication of this notice.

Victor M. Fortuno,
Vice President & General Counsel.

[FR Doc. 2012-25948 Filed 10-19-12; 8:45 am]

BILLING CODE 7050-01-P